DEPARTMENT OF THE INTERIOR

Minerals Management Service

[Docket No. MMS-2009-OMM-0003]

MMS Information Collection Activity: 1010-NEW, Alaska Subsistence Study, Notice of a New Collection; Submitted for Office of Management and Budget (OMB) Review; Comment Request

AGENCY: Minerals Management Service (MMS), Interior.

ACTION: Notice of a new information collection (1010-NEW).

SUMMARY: To comply with the Paperwork Reduction Act of 1995 (PRA), we are notifying the public that we have submitted to OMB an information collection request for approval of the paperwork requirements in the study being conducted in Alaska, Alaska Subsistence Study. This notice also provides the public a second opportunity to comment on the paperwork burden of these regulatory requirements.

DATE: Submit written comments by October 22, 2009.

ADDRESSES: Submit comments by either fax (202) 395-5806 or e-mail (OIRA_DOCKET@omb.eop.gov) directly to the Office of Information and Regulatory Affairs, OMB, Attention: Desk Officer for the Department of the Interior (1010-NEW). Please also submit a copy of your comments to MMS by any of the means below.

• Electronically: go to http://www.regulations.gov. Under the tab More Search Options, click Advanced Docket Search, then select Minerals Management Service from the agency drop-down menu, then click submit. In the Docket ID column, select MMS-2009-OMM-0003 to submit public comments and to view supporting and related materials. Information on using Regulations.gov, including instructions for accessing documents, submitting comments, and viewing the docket after the close of the comment period, is available through the site's User Tips link. The MMS will post all comments.

• Mail or hand-carry comments to the Department of the Interior; Minerals Management Service; Attention: Cheryl Blundon; 381 Elden Street, MS-4024; Herndon, Virginia 20170-4817. Please reference Information Collection 1010-NEW in your subject line and include your name and address.

FOR FURTHER INFORMATION CONTACT: Cheryl Blundon, Regulations and Standards Branch, (703) 787-1607. You may also contact Cheryl Blundon to obtain a copy, at no cost, of the study that requires the subject collection of information.

SUPPLEMENTARY INFORMATION: Title: Alaska Subsistence Study.

OMB Control Number: 1010-NEW.

Abstract: The United States Congress, through the 1953 Outer Continental Shelf (OCS) Lands Act (OCSLA) [Pub. L. 95-372, Section 20] and its subsequent amendments, requires the Secretary of the Department of the Interior to monitor and assess the impacts of resource development activities in Federal waters on human, marine, and coastal environments. The OCSLA amendments authorize the Secretary of the Interior to conduct studies in areas or regions of sales to ascertain the “environmental impacts on the human, marine, and coastal environments of the outer Continental Shelf and the coastal areas which may be affected by oil and gas or other mineral development” (43 U.S.C. 1346).

The National Environmental Policy Act (NEPA) of 1969 (42 U.S.C. 4321-4347) requires that all Federal Agencies use a systematic, interdisciplinary approach to ensure the integrated use of the natural and social sciences in any planning and decision making that may have an effect on the human environment. The Council on Environmental Quality's Regulations for Implementing Procedural Provisions of NEPA (40 CFR 1500-1508) state that the “human environment” is to be “interpreted comprehensively” to include “the natural and physical environment and the relationship of people with that environment” (40 CFR 1508.14). An action's “aesthetic, historic, cultural, economic, social or health” effects must be assessed, “whether direct, indirect, or cumulative” (40 CFR 1508.8).

The U.S. Department of the Interior/Minerals Management Service (DOI/MMS) is the Federal administrative agency created both to conduct OCS lease sales and to monitor and mitigate adverse impacts that might be associated with offshore resource development. Within the MMS, the Environmental Studies Program functions to implement and manage the responsibilities of research. This study will facilitate the meeting of DOI/MMS information needs on subsistence food harvest and sharing activities in coastal Alaska areas.

Planning areas in Alaska can include up to and more than 50,000 square miles—a large geographic area with diverse, abundant, and environmentally sensitive resources. Within these areas, DOI's Proposed OCS Oil and Gas Leasing Program considers that there will be an oil and gas lease sale in the future. The proposed sale area or adjacent areas support major productive commercial and subsistence fisheries, provide habitat to numerous marine mammals, and are significant migration and staging areas for internationally important waterfowl. Numerous communities in the State of Alaska rely heavily on subsistence or commercial fisheries.

This information collection request involves a study that will assess the vulnerabilities of several coastal communities in Alaska, during various times, to the potential effects of offshore oil and gas development on subsistence food harvest and sharing activities. It will investigate the resilience of local sharing networks that structure contemporary subsistence-cash economies using research methods that involve residents of these communities most proximate to future sale area(s).

Potential respondents number approximately 128 from the total number of households. Given the small number of households, all will be interviewed. The frequency of responses submitted will be a one-time event for each study and responses are voluntary. The respondent will be asked questions by the interviewee who will also record responses. This study will be conducted in a face-to-face setting. The questionnaires will be administered under the guidelines of 45 CFR 46. The introduction that will be covered with each participant stresses that participation is voluntary and anonymity will be maintained. No names will appear on the study form, no photographs will be taken of any informant, and no videotaping will be conducted. Minor children and prisoners will not be interviewed. Procedures designed to protect the confidentiality of the information provided will include the use of coded selection and identification numbers to protect the identities of respondents.

The MMS will use the information collected to gain knowledge about local social systems that will help shape development leasing strategies and serve as an interim baseline for impact monitoring to compare against future research in these areas. This study being conducted was requested by the Environmental Assessment section of the Alaska region specifically for use in future Environmental Impact Statements and Environmental Assessments. Without this data, MMS will not have sufficient information to make informed leasing and development decisions for these areas.

Frequency: Voluntary, one-time event, per study.

Estimated Number and Description of Respondents: Approximately 128 respondents from all persons in the Native Alaskan household/community.

Estimated Reporting and Recordkeeping Hour Burden: The MMS estimates the total annual burden hours to be 192 (128 respondents × 1.5 hours per questionnaire = 192 total burden hours).

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on May 1, 2009, we published a Federal Register notice (74 FR 20329) announcing that we would submit this information collection request to OMB for approval. The notice provided the required 60-day comment period. This notice also informed the public that they may comment at any time on the collection of information and provided the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by October 22, 2009.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: July 9, 2009.
E.P. Danenberger,
Chief, Office of Offshore Regulatory Programs.

[FR Doc. E9-22832 Filed 9-22-09; 8:45 am]

BILLING CODE 4310-MR-P